FEDERAL ACCOUNTING STANDARDS ADVISORY BOARD

Notice of Renewal of FASAB Charter

AGENCY: Federal Accounting Standards Advisory Board.

ACTION: Notice.

Board Action: Pursuant to 31 U.S.C. 3511(d),the Federal Advisory Committee Act (Pub. L. 92-463), as amended, and the FASAB Rules Of Procedure, as amended in October 2010, notice is hereby given that under the authority and in furtherance of the objectives of 31 U.S.C. 3511(d), the Secretary of the Treasury, the Director of OMB, and the Comptroller General (the Sponsors) have agreed to continue an advisory committee to consider and recommend accounting standards and principles for the federal government.

For Further Information, or to Obtain a Copy of the Charter, Contact: Ms. Wendy M. Payne, Executive Director, 441 G St. NW., Mail Stop 6H20, Washington, DC 20548, or call (202) 512-7350.

Authority: Federal Advisory Committee Act, Pub. L. 92-463.

Dated: October 23, 2015.
Charles Jackson,
Federal Register Liaison Officer.

[FR Doc. 2015-27578 Filed 10-28-15; 8:45 am]

BILLING CODE 1610-02-P